DEPARTMENT OF JUSTICE

Notice of Lodging of Proposed Consent Decree Under the Clean Water Act

On November 9, 2022, the Department of Justice lodged a consent decree with the United States District Court for the Northern District of Ohio in United States and the State of Ohio v. The City of Elyria, Civil Action No. 22-cv-02026 (N.D. Ohio).

The Complaint seeks civil penalties and injunctive relief for alleged violations of a prior Consent Judgment, the Clean Water Act, and Elyria's National Pollutant Discharge Elimination System permit. The violations relate to discharges of pollutants from Elyria's sewer system. Under the proposed Consent Decree, Elyria would implement an Integrated Wet Weather Control Plan to be completed by December 31, 2044 that includes (1) increasing the capacity for treatment at the wastewater treatment plant; (2) enhancing primary treatment and installing high rate disinfection at the wastewater treatment plant; (3) completion of a relief sewer on the eastern side of the city; (4) constructing localized storage and lift stations to reduce overflows; and (5) various projects to reduce infiltration and inflow of storm water and other sources of water into the sanitary sewer system. Much of the work is to be completed within the first 15 years. Taken together, these control measures are designed to prevent sewer overflows, prevent bypasses around Elyria's wastewater treatment plant, and mitigate harm from any bypasses that may occur. Under the Decree, Elyria would pay a $100,000 civil penalty to the United States and pay $100,000 into Ohio's Surface Water Improvement Fund.

The publication of this notice opens a period for public comment on the Consent Decree. Comments should be addressed to the Assistant Attorney General, Environment and Natural Resources Division, and should refer to United States and the State of Ohio v. The City of Elyria, Ohio, D.J. Ref. No. 90-5-1-1-2155/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $24.50 (25 cents per page reproduction cost) payable to the United States Treasury.

Patricia Mckenna,
Assistant Section Chief, Environmental Enforcement Section, Environment and Natural Resources Division.

[FR Doc. 2022-24898 Filed 11-15-22; 8:45 am]

BILLING CODE 4410-15-P